SMALL BUSINESS ADMINISTRATION

13 CFR Part 120

Lender Oversight and Credit Risk Management Program; Public Comment Meetings

AGENCY: U.S. Small Business Administration.

ACTION: Notice of Public Comment Meetings.

SUMMARY: The U.S. Small Business Administration (SBA) announces that it will be holding a series of public comment meetings on SBA's proposed lender oversight/credit risk management rule. These public comment meetings will be held in selected cities across the country. The purpose of the meetings is to broaden the opportunity for public participation in the rulemaking. Comments presented at these public comment meetings will become part of the administrative record for SBA's consideration in promulgating SBA's lender oversight/credit risk management regulations.

DATES: The public comment meetings will be held on the dates, times and at the locations specified in the Meetings Schedule section below. All attendees should register at least one week prior to the scheduled meeting date.

ADDRESSES: Parties interested in commenting at or attending a public comment meeting must register by providing a request to Keri Pessagno, SBA Office of Credit Risk Management, at keri.pessagno@SBA.gov, or (202) 205-6496, or by facsimile to (202) 481-0744.

FOR FURTHER INFORMATION CONTACT: Bryan Hooper, Director, SBA Office of Credit Risk Management, at bryan.hooper@SBA.gov, or (202) 205-3049, or by facsimile (202) 205-6891.

SUPPLEMENTARY INFORMATION:

I. Background

On October 31, 2007, SBA published a proposed rule to incorporate SBA's risk based lender oversight program into SBA regulations (72 FR 61752) and, on December 20, 2007, extended the comment period on the proposed rule to February 29, 2008. (72 FR 72264). SBA included in the proposed rule a proposed regulatory framework for SBA's oversight of participants in the 7(a), 504 and Microloan lending programs. This regulatory framework would enhance SBA's Office of Credit Risk Management's (OCRM) ability to maximize the efficiency of SBA's lending programs by effectively managing program credit risk, monitoring lender performance, and enforcing lending program requirements. It is SBA's intent that the proposed framework would also incorporate the mission of SBA to assist small business access to credit. While the comments received on the proposed rule are greatly assisting SBA with its deliberations, SBA would like to broaden public participation by offering the public an opportunity to meet with SBA in person and communicate their comments. This Notice provides information on the purpose, format, scheduling, and registration for the public comment meetings.

II. Public Comment Meetings

The purpose of these public comment meetings is to broaden the opportunity for public participation in the rulemaking by providing a mechanism beyond the single written round of notice and comment and enable SBA to more fully comprehend the views of the public. SBA considers public comment meetings a valuable component of its deliberations and believes that these comment meetings will allow for constructive input by the lending community, their appointed representatives, and other members of the public. The comments conveyed would assist SBA in assessing and refining SBA's proposed rule.

The format will consist of a panel of SBA representatives who will represent the Agency and moderate the oral comments. The panel will listen to the views of the oral commenters on the proposed regulations. SBA respectfully requests that the comments focus on the regulations as discussed in the proposal, SBA's incorporation of the Agency mission into the proposed rule, or on any unique concerns of the lending communities and other stakeholders potentially affected by this rule. SBA requests that commenters do not raise issues pertaining to other SBA small business programs or issues outside the scope of the proposed rule. Issues not raised in the proposed rule are more properly suited to a different forum than these meetings.

Individuals orally commenting before SBA will be limited to a 5 minute oral comment. SBA officials may ask questions of a commenter to clarify or further explore the oral comments. Since the purpose of the meeting is to assist SBA with gathering comments for the proposed rule, SBA will not respond as to whether it agrees with the view or position of the commenter.

Commenters may provide a written copy of their comments. SBA will accept written material that the commenter wishes to provide that further supplements his or her oral comments, at or before the meeting. Written comments may be submitted in lieu of oral comments. Electronic or digitized copies are encouraged. SBA will consider the comments, both oral and written, along with any written comments received. Oral and written comments will become part of the rulemaking record for SBA's consideration.

III. Meeting Schedule

Location | Address | Meeting date | Registration closing date
San Francisco, CA | SBA District Office, 455 Market Street, 6th Floor, San Francisco, CA 94105 | Tuesday, April 1, 2008. Begins 9:30 a.m., Ends 12:30 p.m | Tuesday, March 25, 2008.
Los Angeles, CA | SBA District Office, 330 N. Brand Blvd., Suite 1200, Glendale, CA 91203 | Thursday, April 3, 2008. Begins 9:30 a.m., Ends 12:30 p.m | Thursday, March 27, 2008.
Boston, MA | O'Neil Federal Office Building, 10 Causeway Street, Auditorium, Boston, MA 02222 | Tuesday, April 8, 2008. Begins 9:30 a.m., Ends 12:30 p.m | Tuesday, April 1, 2008.
Philadelphia, PA | Robert N.C. Nix Building, 900 Market Street, 2nd Floor, Courtroom Number 7, Philadelphia, PA 19107 | Wednesday, April 9, 2008. Begins 9:30 a.m., Ends 12:30 p.m | Wednesday, April 2, 2008.
Atlanta, GA | Kennesaw State University, Continuing Education Center, 3333 Busbee Drive, Room 400, Kennesaw, GA 30144-3089 | Tuesday, April 15, 2008. Begins 10 a.m., Ends 1 p.m | Tuesday, April 8, 2008.
Dallas, TX | SBA Disaster Office, 14925 Kingsport Road, Ft. Worth, TX 76155 | Wednesday, April 16, 2008. Begins 9:30 a.m., Ends 12:30 p.m | Wednesday, April 9, 2008.
Kansas City, MO | SBA District Office, 1000 Walnut Street, Suite 500, Kansas City, MO 64106 | Thursday, April 17, 2008. Begins 8 a.m., Ends 11 a.m | Thursday, April 10, 2008.
Chicago, IL | Citicorp Center, 500 West Madison Street, 3rd Floor Conference Center, Chicago, IL 60661 | Friday, April 18, 2008. Begins 9:30 a.m., Ends 12:30 p.m | Friday, April 11, 2008.

Each public comment meeting will begin 9:30 a.m. and end at 12:30 p.m. (local time) for San Francisco, CA, Los Angeles, CA, Boston, MA, Philadelphia, PA, Dallas, TX and Chicago, IL. For Atlanta, GA, the meeting will begin at 10 a.m. and end at 1 p.m. For Kansas City, MO the meeting will begin at 8 a.m. and end at 11 a.m. SBA will adjourn early if all those scheduled have delivered their testimony.

IV. Registration

SBA respectfully requests that any elected or appointed representative of any lender or other stakeholder communities that is interested in attending please register in advance and indicate whether you would like to orally comment at the meeting. Registration requests should be received by SBA at least one week prior to the respective public comment meeting date. Please contact Keri Pessagno of SBA's Office of Credit Risk Management at keri.pessagno@sba.gov, or (202) 205-6496, or by facsimile to (202) 481-0744. If you are interested in orally commenting please include the following information relating to the person orally commenting and the location they will be attending: Name, Title, Organization affiliation, Address, Telephone number, E-mail address and Fax number.

SBA will attempt to accommodate all interested parties that wish to orally comment. However, time considerations limit the total number of oral commenters at each meeting. If the number of individuals seeking to orally comment at a specific meeting exceeds the number permitted due to time limitations, SBA will ask if any interested parties are able to attend a different meeting, and if that is not possible, will ask those requesting to orally comment last in time to submit their comments in writing. To afford all interested parties an opportunity to orally comment at the meetings, an individual can register for only one meeting location.

Parties that plan to attend the meeting but not orally comment must also pre-register. For those parties, please indicate in your registration that you will be attending the meeting but not making an oral comment.

SBA will confirm in writing the registration of commenters and attendees for the meetings.

Eric Zarnikow,
Associate Administrator, Office of Capital Access.

[FR Doc. E8-5856 Filed 3-21-08; 8:45 am]

BILLING CODE 8025-01-P